DEPARTMENT OF AGRICULTURE

Animal and Plant Health Inspection Service

9 CFR Part 161

[Docket No. APHIS-2017-0065]

RIN 0579-AE40

National Veterinary Accreditation Program; Correction

AGENCY: Animal and Plant Health Inspection Service, Agriculture (USDA).

ACTION: Correcting amendment.

SUMMARY: In a final rule that was published in the Federal Register on February 25, 2020, and effective on March 26, 2020, we amended the regulations governing the National Veterinary Accreditation Program by, among other things, replacing all instances of the term “Veterinarian-in-Charge” with the term “Veterinary Official.” However, we inadvertently left two instances of the term “Veterinarian-in-Charge” in the regulations. This document corrects that oversight in the final rule.

DATES: Effective July 13, 2020.

FOR FURTHER INFORMATION CONTACT: Dr. Todd Behre, Coordinator, National Veterinary Accreditation Program; National Animal Disease Traceability and Veterinary Accreditation Center, APHIS Veterinary Services; (518) 281-2157; todd.h.behre@usda.gov.

SUPPLEMENTARY INFORMATION: On February 25, 2020, we published in the Federal Register (85 FR 10562-10565, Docket No. APHIS-2017-0065) a final rule that amended the National Veterinary Accreditation Program regulations in 9 CFR parts 160, 161, and 162. Among other changes to these regulations, we replaced the term “Veterinarian-in-Charge” with the term “Veterinary Official” throughout. However, in § 161.1(e)(4), we inadvertently left two instances of “Veterinarian-in-Charge” unchanged. This document corrects that error.

List of Subjects in 9 CFR Part 161

Reporting and recordkeeping requirements, Veterinarians.

Accordingly, we are amending 9 CFR part 161 as follows:

PART 161—REQUIREMENTS AND STANDARDS FOR ACCREDITED VETERINARIANS AND SUSPENSION OR REVOCATION OF SUCH ACCREDITATION

1. The authority citation for part 161 continues to read as follows:

Authority: 7 U.S.C. 8301-8317; 15 U.S.C. 1828; 7 CFR 2.22, 2.80, and 371.4.

§ 161.1 [Amended]

2. In § 161.1, paragraph (e)(4) introductory text is amended by removing the words “Veterinarian-in-Charge” both times they appear and adding the words “Veterinary Official” in their place.

Done in Washington, DC, this 22nd day of June 2020 .
Mark Davidson,
Acting Administrator, Animal and Plant Health Inspection Service.

[FR Doc. 2020-13920 Filed 7-10-20; 8:45 am]

BILLING CODE 3410-34-P